DEPARTMENT OF JUSTICE

Notice of Lodging of Consent Decree; National Marine Sanctuaries Act

Notice is hereby given that the United States, on behalf of the United States District Court for the Southern District of Florida, in United States v. Great Lakes Dredge and Dock Company, Civil Action No. 97-2510, consolidated with 97-10075, on December 4, 2002. This Consent Decree resolves the claims of the United States against Great Lakes Dredge and Dock Company (“Great Lakes”), pursuant to the National Marine Sanctuaries Act, 16 U.S.C. 1431, et seq. The Consent Decree concerns the grounding of a vessel owned by Coastal Marine Towing and the dragging of a dredge pipe for 13 miles through the Florida Keys National Marine Sanctuary west of Marathon, Florida.

The Consent Decree provides that Great Lakes will purchase an annuity from Allstate Life Insurance Company (“Allstate”) which will provide for the payment of $969,000 to the National Oceanic and Atmospheric Administration (“NOAA”) over a period of five years from December 16, 2002. The funds will be used by NOAA to repay damage assessment costs, compensatory or loss use values, and for the primary on-site restoration of the grounding site. The Consent Decree further provides that the United States covenants not to bring a civil action or take administrative action against Great Lakes pursuant to the NMSA for violations of the Act alleged in the Amended Complaint.

The Department of Justice will receive, for a period of 30 days from the date of this publication, comments relating to the proposed Consent Decree. Comments should be addressed to the Assistant Attorney General for the Environmental and Natural Resources Division, Department of Justice, Washington, DC 20530, and should refer to United States v. Great Lakes Dredge and Dock Company, DOJ #90-11-3-1636.

The proposed Consent Decree may be examined at the United States Attorney's Office, Southern District of Florida, 99 NE. 4th St., Suite 328, Miami, FL 33132. A copy of the proposed Consent Decree may be obtained by mail from the Department of Justice Consent Decree Library, P.O. Box 7611, Washington, DC 20044. In requesting a copy, please refer to the reference number given above and enclose a check in the amount of $8.50 (25 cents per page reproduction costs), payable to the Consent Decree Library.

Ellen M. Mahan,
Assistant Section Chief, Environmental Enforcement Section, Environment and Natural Resources Division.

[FR Doc. 02-33080 Filed 12-31-02; 8:45 am]

BILLING CODE 4410-15-M